DEPARTMENT OF EDUCATION

Office of Special Education and Rehabilitative Services; List of Correspondence

AGENCY: Department of Education.

ACTION: List of Correspondence from October 1, 2006 through December 31, 2006.

SUMMARY: The Secretary is publishing the following list pursuant to section 607(f) of the Individuals with Disabilities Education Act, as amended by the Individuals with Disabilities Education Improvement Act of 2004 (IDEA). Under section 607(f) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from October 1, 2006 through December 31, 2006. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part B—Assistance for Education of All Children With Disabilities

Section 611—Authorization; Allotment; Use of Funds; Authorization of Appropriations

Topic Addressed: Allotment

○ Letter dated November 20, 2006 to Washington, DC attorney Leigh Manasevit, regarding the reallocation of high cost funds that were not expended before the last year of availability.

Section 612—State Eligibility

Topic Addressed: Free Appropriate Public Education

○ Letter dated December 22, 2006 to National Association of Public Health Systems Executive Director Mark Covall, regarding the obligation to ensure that a free appropriate public education is available to children with disabilities who are placed by a non-educational public agency in a public or private residential program and clarifying that determining the specific school district or local educational agency responsible for the cost of that residential placement is a matter of State law, policy or practice.

Topic Addressed: Confidentiality of Education Records.

cir; Letter dated October 13, 2006 to Texas Education Agency General Counsel David A. Anderson, regarding confidentiality issues raised by IDEA and the Family Educational Rights and Privacy Act related to the public dissemination of special education due process hearing decisions.

Topic Addressed: Children With Disabilities Enrolled by Their Parents in Private Schools.

○ Letter dated December 1, 2006 to U.S. Representative Christopher Smith, regarding the applicability of equitable participation requirements to children with disabilities ages three through five enrolled by their parents in private schools or facilities.

Section 614—Evaluations, Eligibility Determinations, Individualized Education Programs, and Educational Placements

Topic Addressed: Evaluations and Reevaluations

○ Letter dated October 19, 2006 to National Association of School Psychologists Executive Director Susan Gorin, regarding the role of school psychologists in administering assessments and the regulatory changes in procedures for evaluating children suspected of having learning disabilities

Topic Addressed: Individualized Education Programs

○ Letter dated October 19, 2006 to TASH Executive Director Barbara Trader, clarifying that the IDEA, while requiring the individualized education program team (IEP Team) to consider the use of positive behavioral interventions and supports, does not include a prohibition on the use of aversive behavioral interventions and that the decision whether to allow IEP Teams to consider the use of such interventions is a decision left to each State.

Topic Addressed: Educational Placements

○ Letter dated November 3, 2006 to Iowa Bureau of Children, Family, and Community Services Chief Lana Michelson, regarding the educational placement of students, including students with disabilities, who are required to register as sex offenders under State law.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: May 15, 2007.
John H. Hager,
Assistant Secretary for Special Education and Rehabilitative Services.

[FR Doc. E7-9750 Filed 5-18-07; 8:45 am]

BILLING CODE 4000-01-P